DEPARTMENT OF DEFENSE

Department of the Army

Notice of Intent To Grant a Partially Exclusive Patent License to Linear Systems

AGENCY: Department of the Army, DOD.

ACTION: Notice of intent.

SUMMARY: In compliance with 37 CFR 404 et seq., the Department of the Army hereby gives notice of its intent to grant to Linear Systems, a corporation having its principle place of business at 8403 Maple Place; Rancho Cucamonga, CA, 91730, a partially exclusive license relative to ARL patent application # 11/038,401 entitled, “Method for Super Resolving Images”; January 19, 2005, Inventor: Shiqiong Susan Young.

DATES: Anyone wishing to object to the grant of this license must file written objections along with supporting evidence, if any, not later than 15 days from the date of this notice.

ADDRESSES: Send written objections to Michael D. Rausa, U.S. Army Research Laboratory, Office of Research and Technology Applications, Attn: AMSRD-ARL-DP-P/Bldg. 434, Aberdeen Proving Ground, MD 21005-5425.

FOR FURTHER INFORMATION CONTACT: Michael D. Rausa, telephone (410) 278-5028.

SUPPLEMENTARY INFORMATION: None.

Brenda S. Bowen,
Army Federal Register Liaison Officer.

[FR Doc. E7-23645 Filed 12-5-07; 8:45 am]

BILLING CODE 3710-08-P